SOCIAL SECURITY ADMINISTRATION

[Docket No. SSA-2011-0039]

Finding Regarding Foreign Social Insurance or Pension System—St. Vincent and the Grenadines

AGENCY: Social Security Administration (SSA)

ACTION: Notice of Finding Regarding Foreign Social Insurance or Pension System—St. Vincent and the Grenadines.

Finding: Section 202(t)(1) of the Social Security Act (42 U.S.C. 402(t)(1)) prohibits payment of monthly benefits to any individual who is not a United States citizen or national for any month after he or she has been outside the United States for 6 consecutive months. This prohibition does not apply to such an individual where one of the exceptions described in section 202(t)(2) through 202(t)(5) of the Social Security Act (42 U.S.C. 402(t)(2) through 402(t)(5) affects his or her case.

Section 202(t)(2) of the Social Security Act provides that, subject to certain residency requirements of Section 202(t)(11), the prohibition against payment shall not apply to any individual who is a citizen of a country which the Commissioner of Social Security finds has in effect a social insurance or pension system which is of general application in such country and which:

(a) Pays periodic benefits, or the actuarial equivalent thereof, on account of old age, retirement, or death; and

(b) Permits individuals who are United States citizens but not citizens of that country and who qualify for such benefits to receive those benefits, or the actuarial equivalent thereof, while outside the foreign country regardless of the duration of the absence.

The Commissioner of Social Security has delegated the authority to make such a finding to the Associate Commissioner of the Office of International Programs. Under that authority, the Associate Commissioner of the Office of International Programs has approved a finding that St. Vincent and the Grenadines, beginning December 1, 2009, has a social insurance system of general application which:

(a) Pays periodic benefits, or the actuarial equivalent thereof, on account of old age, retirement, or death; and

(b) Permits United States citizens who are not citizens of St. Vincent and the Grenadines to receive such benefits, or their actuarial equivalent, at the full rate without qualification or restriction while outside St. Vincent and the Grenadines.

Accordingly, it is hereby determined and found that St. Vincent and the Grenadines has in effect, beginning December 1, 2009, a social insurance system which meets the requirements of section 202(t)(2) of the Social Security Act (42 U.S.C. 402(t)(2).

St. Vincent and the Grenadines became an independent nation on October 27, 1979. At that time, it was determined that St. Vincent and the Grenadines did not have a pension system that met the requirements of section 202(t)(2) of the Social Security Act. The country's provident system did not provide for the payment of periodic benefits as required under section 202(t)(2)(A). Notice appeared in the Federal Register on March 12, 1982. Based on the 1981 determination of record, citizens of St. Vincent and the Grenadines cannot meet the exception provided under section 202(t)(2) of the Social Security Act. However, they have been afforded the limited exceptions provided under section 202(t)(4) of the Act.

In 1986, St. Vincent and the Grenadines instituted a social insurance system that became operational in 1987. The system provides old-age, disability, and survivor's benefits, as well as other types of social insurance. Information recently obtained from St. Vincent and the Grenadines' National Insurance Institute contains detailed information on the country's social insurance system and the coverage of its labor force. This information required a new determination under the section 202(t)(2) provisions.

FOR FURTHER INFORMATION CONTACT: Donna Powers, 3700 Robert Ball Building, 6401 Security Boulevard, Baltimore, MD 21235-6401, (410) 965-3558.

(Catalog of Federal Domestic Assistance: Program Nos. 96.001 Social Security—Disability Insurance; 96.002 Social Security—Retirement Insurance; 96.004 Social Security—Survivors Insurance)

Diane K. Braunstein,
Associate Commissioner, Office of International Programs.

[FR Doc. 2011-12596 Filed 5-20-11; 8:45 am]

BILLING CODE 4191-02-P